DEPARTMENT OF HEALTH AND HUMAN SERVICES

National Institutes of Health

National Institute on Alcohol Abuse and Alcoholism; Amended Notice of Meeting

Notice is hereby given of a change in the meeting of the Clinical, Treatment and Health Services Research Review Subcommittee, June 19, 2020, 8:30 a.m. to June 19, 2020, 5:00 p.m., JW Marriott New Orleans, 3rd Floor, Suite 1, 614 Canal Street, New Orleans, LA 70130 which was published in the Federal Register on March 18, 2020, 85 FR 15485.

This notice is being amended to change the meeting location from the JW Marriott New Orleans, 3rd Floor, Suite 1, 614 Canal Street, New Orleans, LA 70130 to a telephone conference call. The meeting is closed to the public.

Dated: March 30, 2020.
Melanie J. Pantoja,
Program Analyst, Office of Federal Advisory Committee Policy.

[FR Doc. 2020-06920 Filed 4-1-20; 8:45 am]

BILLING CODE 4140-01-P